DEPARTMENT OF COMMERCE

National Oceanic and Atmospheric Administration

[RTID 0648-XC192]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Gulf of Maine Research Institute contains all of the required information and warrants further consideration. Regulations under the Magnuson-Stevens Fishery Conservation and Management Act require publication of this notification to provide interested parties the opportunity to comment on applications for proposed Exempted Fishing Permits.

DATES: Comments must be received on or before August 30, 2022.

ADDRESSES: You may submit written comments by the following method:

• Email: nmfs.gar.efp@noaa.gov. Include in the subject line “GMRI Third-Party DSM Pilot EFP.”

FOR FURTHER INFORMATION CONTACT: Claire Fitz-Gerald, Fishery Policy Analyst, claire.fitz-gerald@noaa.gov, (978) 281-9255.

SUPPLEMENTARY INFORMATION: The Gulf of Maine Research Institute (GMRI) submitted a complete application for an Exempted Fishing Permit (EFP) to pilot a third-party dockside monitoring (DSM) program in support of maximized retention electronic monitoring (MREM) for the Northeast multispecies fishery. The groundfish sector MREM program currently operates under an EFP and NMFS administers an accompanying DSM program to collect catch information. MREM will be implemented in regulation as part of Amendment 23 to the Northeast Multispecies Fishery Management Plan during fishing year 2022. Measures implementing Amendment 23 were published in a proposed rule on February 28, 2022 (87 FR 11014). Amendment 23 was approved on behalf of the Secretary of Commerce on April 12, 2022; it will be implemented through a final rule in 2022, although the timing is uncertain. Amendment 23 aims to improve the reliability and accountability of catch reporting in the commercial groundfish fishery.

NMFS will continue to administer the DSM program while we finalize program standards and requirements, after which we will transition the program in an industry-funded model and sectors will contract directly with third-party providers for DSM services. GMRI intends to support this transition by administering a DSM pilot program with contracted third-party providers to achieve two main objectives: To provide increased DSM capacity; and explore innovative alternatives to the existing DSM program. If approved, this EFP would exempt participants from the MREM DSM regulation included in the Amendment 23 proposed rule at 50 CFR 648.11(l)(10)(i)(D). The EFP would exempt vessels in the MREM program from the requirement to participate in either an independent third-party DSM program approved by NMFS or the DSM program operated by NMFS. We intend to align issuance of this EFP, if approved, with the implementation of Amendment 23. Given this, we are notifying the public of our intent to issue the EFP and soliciting comments now even though we have yet to publish the final rule with implementing regulations for Amendment 23.

Under the EFP, GMRI and its contracted third-party providers would provide additional DSM capacity for fishing year 2022 by overseeing some offloads for MREM vessels. GMRI and its contracted third-party providers would coordinate with the Northeast Fisheries Science Center (NEFSC) to deploy DSM services as needed, and would collect data required under the MREM program. In particular, the DSM program is responsible for: Verifying that the fish hold is empty after offload; independently recording dealer-reported weights; and collecting biosamples with an emphasis on sub-legal groundfish. GMRI and its contracted third-party providers would give the information collected to NEFSC for data entry and quality assurance and control.

The DSM pilot program would also explore innovative alternatives to existing protocols to collect catch information, and provide support to sectors, fishermen, and dealers. For example, innovations may include, but are not limited to, alternative program designs (e.g., subsampling) and technological solutions to data collection. GMRI would work with NMFS to identify innovations suitable for exploration and testing. The ultimate objective of the EFP would be to develop cost-effective and efficient DSM protocols to meet program standards and requirements that work across a variety of fishing and offload strategies.

The third-party DSM EFP would start when Amendment 23 is implemented and would operate through the remainder of fishing year 2022 (i.e., until April 30, 2023). NMFS expects approximately 12 vessels to enroll in MREM during fishing year 2022. Participating vessels would land at the following ports, although this list may change if new vessels join the program: Portland ME, Gloucester MA, Boston MA, and New Bedford MA. Cumulatively, MREM vessels are expected to take 250-300 trips. GMRI would work closely with NMFS to deploy DSM staff to vessels and ensure full DSM coverage in accordance with program requirements. All other regulations and conditions would still apply, including adherence to vessels' approved sector operations plans, EM plans, and vessel monitoring plans.

If approved, the applicant may request minor modifications and extensions to the EFP throughout the year as well as modifications resulting from changes to the regulations for the DSM program included in the Amendment 23 final rule. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 9, 2022.
Kelly Denit,
Director, Office of Sustainable Fisheries, National Marine Fisheries Service.

[FR Doc. 2022-17464 Filed 8-12-22; 8:45 am]

BILLING CODE 3510-22-P